DEPARTMENT OF ENERGY

Federal Energy Regulatory Commission

[Project No. 2445-028]

Green Mountain Power Corporation; Notice of Revised Procedural Schedule for Environmental Assessment for the Proposed Project Relicense

On December 23, 2021, Green Mountain Power Corporation filed an application for a subsequent license to continue to operate and maintain the 275-kilowatt Center Rutland Hydroelectric Project No. 2445 (Center Rutland Project). On April 28, 2023, Commission staff issued a notice of intent to prepare an Environmental Assessment (EA) to evaluate the effects of relicensing the Center Rutland Project. The notice of intent included a schedule for preparing the EA.

By this notice, Commission staff is updating the procedural schedule for completing the EA. The revised schedule is shown below. Further revisions to the schedule may be made as appropriate.

Milestone | Target date
Issue EA | February 2024.

Any questions regarding this notice may be directed to Steve Kartalia at (202) 502-6131, or by email at stephen.kartalia@ferc.gov.

Dated: December 14, 2023.
Debbie-Anne A. Reese,
Deputy Secretary.

[FR Doc. 2023-27992 Filed 12-19-23; 8:45 am]

BILLING CODE 6717-01-P